DEPARTMENT OF HEALTH AND HUMAN SERVICES

Centers for Disease Control and Prevention

[30DAY-17-00]

Agency Forms Undergoing Paperwork Reduction Act Review

The Centers for Disease Control and Prevention (CDC) publishes a list of information collection requests under review by the Office of Management and Budget (OMB) in compliance with the Paperwork Reduction Act (44 U.S.C. Chapter 35). To request a copy of these requests, call the CDC Reports Clearance Officer at (404) 639-7090. Send written comments to CDC, Desk Officer; Human Resources and Housing Branch, New Executive Office Building, Room 10235; Washington, DC 20503. Written comments should be received within 30 days of this notice.

Proposed Project

National Program of Cancer Registries—Cancer Surveillance System—NEW—National Center for Chronic Disease Prevention and Health Promotion (NCCDPHP). The American Cancer Society estimates that 8.2 million Americans have a history of cancer and that in 1999, about 1.2 million new cases will be diagnosed. At the national level, cancer incidence data are available for only 14% of the population of the United States. While this is appropriate for analyses of major cancers in large population subgroups, it is not always adequate for minority populations and rare cancer analyses. Further, to plan and evaluate state and national cancer control and prevention efforts, national data are needed. Therefore, the Centers for Disease Control and Prevention, National Center for Chronic Disease Prevention and Control, Division of Cancer Prevention and Control, proposes to aggregate existing cancer incidence data from states funded by the National Program of Cancer Registries into a national surveillance system.

These data are already collected and aggregated at the state level. Thus the additional burden on the states would be small. Program implementation would require funded states to report data to the Centers for Disease Control on an annual basis twelve months after the close of a diagnosis year and again at twenty-four months to obtain more complete incidence data and vital status from mortality data. The total annual burden hours are 126.

Respondents | Number of respondents | Number of responses/ respondent | Average burden/ response (in hrs.)
State, territorial, and District of Columbia cancer registries | 63 | 1 | 2

Dated: February 14, 2000.
Charles Gollmar,
Acting Associate Director for Policy, Planning and Evaluation, Centers for Disease Control and Prevention (CDC).

[FR Doc. 00-4202 Filed 2-23-00; 8:45 am]

BILLING CODE 4163-18-P